ENVIRONMENTAL PROTECTION AGENCY

[EPA-HQ-OECA-2010-0376; FRL-9268-9]

Agency Information Collection Activities; Submission to OMB for Review and Approval; Comment Request; The Consolidated Air Rule (CAR) for the Synthetic Organic Chemical Manufacturing Industry (SOCMI) (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted, below describes the nature of the collection and the estimated burden and cost.

DATES: Additional comments may be submitted on or before March 24, 2011.

ADDRESSES: Submit your comments, referencing docket ID number EPA-HQ-OECA-2010-0376, to (1) EPA online using http://www.regulations.gov (our preferred method), or by e-mail to docket.oeca@epa.gov, or by mail to: EPA Docket Center (EPA/DC), Environmental Protection Agency, Enforcement and Compliance Docket and Information Center, Mail Code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Robert C. Marshall, Jr., Office of Enforcement Compliance Assurance, Mail code: 2223A, Environmental Protection Agency, 1200 Pennsylvania Avenue, NW., Washington, DC 20460; telephone number: (202) 564-7021; e-mail address: marshall.robert@epa.gov.

SUPPLEMENTARY INFORMATION: EPA has submitted the following ICR to OMB for review and approval according to the procedures prescribed in 5 CFR 1320.12. On June 2, 2010, (75 FR 30813) EPA sought comments on this ICR pursuant to 5 CFR 1320.8(d). EPA received no comments. Any additional comments on this ICR should be submitted to EPA and OMB within 30 days of this notice.

EPA has established a public docket for this ICR under docket ID number EPA-HQ-OECA-2010-0376, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: The Consolidated Air Rule (CAR) for the Synthetic Organic Chemical Manufacturing Industry (SOCMI) (Renewal).

ICR Numbers: EPA ICR Number 1854.07, OMB Control Number 2060-0443.

ICR Status: This ICR is scheduled to expire on February 28, 2011. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Synthetic Organic Chemical Manufacturing Industry (SOCMI) is regulated by the New Source Performance Standards (NSPS) and National Emission Standards for Hazardous Air Pollutants (NESHAP). The affected entities are subject to the General Provisions of the NSPS at 40 CFR part 60, subpart A, and any changes or additions to the Provisions specified at 40 CFR part 60, subparts Ka, Kb, VV, VVa, DDD, III, NNN, and RRR. The affected entities are also subject to the General Provisions of the NESHAP at 40 CFR part 61, subpart A, and any changes or additions to the Provisions specified at 40 CFR part 61, subparts BB, Y, and V. The affected entities are also subject to the General Provisions of the NESHAP at 40 CFR part 63, subpart A, and any changes or additions to the Provisions specified at 40 CFR part 63, subparts F, G, H, and I. As an alternative, SOCMI sources may choose to comply with the above standards under the Consolidated Air Rule (CAR) at 40 CFR part 65, as promulgated on December 14, 2000.

Synthetic organic chemical manufacturing facilities subject to NSPS requirements must notify EPA of construction, modification, startups, shutdowns, date and results of initial performance test and excess emissions. Semiannual reports are also required.

Synthetic organic chemical manufacturing facilities subject to NESHAP requirements must submit one-time-only reports of any physical or operational changes and the results of initial performance tests. Owners or operators are also required to maintain records of the occurrence and duration of any startup, shutdown, or malfunction in the operation of an affected facility, or any period during which the monitoring system is inoperative. Periodic reports are also required, at a minimum, semiannually. Under the CAR requirements, periodic but less burdensome reporting is required.

Burden Statement: The annual public reporting and recordkeeping burden for this collection of information is estimated to average 200 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of synthetic organic chemical manufacturing facilities.

Estimated Number of Respondents: 3,311.

Frequency of Response: Initially, occasionally, semiannually and annually.

Estimated Total Annual Hour Burden: 1,988,952.

Estimated Total Annual Cost: $283,462,406, which includes $188,133,406 in labor costs, $3,373,000 in capital/startup costs, and $91,956,000 in operation and maintenance (O&M) costs.

Changes in the Estimates: There is an increase of 43 burden hours from the most recently approved ICR due to adjustments. These adjustments result from the revisions to the CAR in the Direct Final Rule, the retention of decimal places during intermediate calculations, and correction of a calculation error in the burden estimates for subpart VVa in the most recent approved ICR. Additionally, there is an increase in both respondent and Agency costs resulting from labor rate adjustments from the year 2006 to the most recently available rates. The increases in Agency cost is a result of direct labor rate increases in the managerial, technical, and clerical labor categories. The increase in respondent cost is a result of direct labor rate increases in the technical and clerical labor categories.

Dated: February 14, 2011.
John Moses,
Director, Collection Strategies Division.

[FR Doc. 2011-3871 Filed 2-18-11; 8:45 am]

BILLING CODE 6560-50-P